DEPARTMENT OF TRANSPORTATION

Maritime Administration

[Docket Number: MARAD-2002-12709]

Requested Administrative Waiver of the Coastwise Trade Laws

AGENCY: Maritime Administration, Department of Transportation.

ACTION: Invitation for public comments on a requested administrative waiver of the Coastwise Trade Laws for the vessel LUCKY LADY.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before August 12, 2002.

ADDRESSES: Comments should refer to docket number MARAD-2002-12709. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: LUCKY LADY. Owner: Donald E. Beard.

(2) Size, capacity and tonnage of vessel. According to the applicant: “Length of Vessel: 45.6; Breadth: 15.0; Draft: 4.6; Gross Tonnage: 32 GRT; Net Tonnage: 25 NRT;”

(3) Intended use for vessel, including geographic region of intended operation and trade. According to the applicant:

“Our intended use is to charter this vessel to those tourists who would like to see the coastline locally in Kachemak Bay and extending around the point to Seward, or from Homer to Kodiak. We would like to tour the coves and bays of the coastline and allow those tourists who would like an option other than Fishing and Hunting Charters to see and photograph Alaska. The vessel is designed for extended stays on board, complete with a skiff on her aft that can be used to travel into land for hiking, sightseeing, and photography. We intend to do overnight charters, extending to 7 day “coastline tour” charters, depending upon the desires of the clients. In essence we will be “renting a Yacht”.”

(4) Date and Place of construction and (if applicable) rebuilding. Date of construction: 1970. Place of construction: Quebec, Canada.

(5) A statement on the impact this waiver will have on other commercial passenger vessel operators. According to the applicant: “There are currently no commercial passenger vessel operators based in Homer who provide charters of this nature. The majority of operators run 8 hour Fishing Charters in a 6 pack vessel. Other vessels provide hunting charters where the vessel drops the hunters off in an area, then picks them up at a later date. The other option are the water taxi's, which deliver people to the “other side” of Kachemak bay, drop them off, and then later pick them up. This tourist group goes hiking, stays at one of the lodges, or visits one of the restaurants. Again, this is limited and does not allow the experience of traveling the coastline. There is a market open for those people who choose not to fish but would like to spend time on the ocean viewing and photographing our coastline. We have the vessel to cater to that market.” “We have received only positive feedback and support from the small passenger vessel operators in our area. Additionally, we have received positive comments from our local Chamber of Commerce and business owners, as our business will be contributing to our local economy.”

(6) A statement on the impact this waiver will have on U.S. shipyards. According to the applicant: “This will have no impact on U.S. shipyards. The Homer boat harbor consists primarily of 6 pack fishing charter vessels, commercial fishing vessels, large commercial vessels, and private use boats.”

Dated: July 8, 2002.
By order of the Maritime Administrator.
Joel C. Richard,
Secretary, Maritime Administration.

[FR Doc. 02-17448 Filed 7-10-02; 8:45 am]

BILLING CODE 4910-81-P